COMMISSION ON CIVIL RIGHTS

Notice of Public Meeting of the Texas State Advisory Committee for the Purpose of Planning Project Activity

AGENCY: U.S. Commission on Civil Rights.

ACTION: Announcement of meeting.

SUMMARY: Notice is hereby given, pursuant to the provisions of the rules and regulations of the U.S. Commission on Civil Rights (Commission) and the Federal Advisory Committee Act (FACA) that a meeting of the Texas State Advisory Committee (Committee) to the Commission will be held on Friday, September 18, 2015, at 1:30 p.m. for the purpose of planning projects on school discipline and voting rights.

This meeting is available to the public through the following toll-free call-in number: 888-503-8169, conference ID: 5785668. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to make comments in the open period at the end of the meeting. Members of the public may also submit written comments. The comments must be received in the Western Regional Office of the Commission by October 28, 2015. The address is Western Regional Office, U.S. Commission on Civil Rights, 300 N. Los Angeles Street, Suite 2010, Los Angeles, CA 90012. Persons wishing to email their comments may do so by sending them to Angelica Trevino, Civil Rights Analyst, Western Regional Office, at atrevino@usccr.gov. Persons who desire additional information should contact the Western Regional Office, at (213) 894-3437, (or for hearing impaired TDD 913-551-1414), or by email to atrevino@usccr.gov. Hearing-impaired persons who will attend the meeting and require the services of a sign language interpreter should contact the Regional Office at least ten (10) working days before the scheduled date of the meeting.

Records and documents discussed during the meeting will be available for public viewing prior to and after the meeting at http://facadatabase.gov/committee/meetings.aspx?cid=276 and clicking on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda:

1:30 p.m.—Discussion of project proposal on school discipline and voting rights project

2:30 p.m.—Public comment

Adjournment

DATES: Friday, September 18, 2015,

FOR FURTHER INFORMATION CONTACT: Peter Minarik, DFO, at (213) 894-3437 or pminarik@usccr.gov.

Dated August 25, 2015.
David Mussatt,
Chief, Regional Programs Coordination Unit.

[FR Doc. 2015-21370 Filed 8-27-15; 8:45 am]

BILLING CODE 6335-01-P